DEPARTMENT OF ENERGY

Federal Energy Regulatory Commission

[Project No. 13432-000]

America Renewables, LLC; Notice of Preliminary Permit Application Accepted for Filing and Soliciting Comments, Motions To Intervene, and Competing Applications

July 23, 2009.

On April 14, 2009, America Renewables, LLC filed an application for a preliminary permit, pursuant to section 4(f) of the Federal Power Act, proposing to study the feasibility of the Lake Clementine Hydroelectric Project, which is located on the North Fork of American River, in Placer County, California. The sole purpose of a preliminary permit, if issued, is to grant the permit holder priority to file a license application during the permit term. A preliminary permit does not authorize the permit holder to perform any land-disturbing activities or otherwise enter upon lands or waters owned by others without the owners' express permission.

The proposed project would consist of the following:

(1) An existing 620-foot-long, 155-foot-high, concrete arch North Fork dam; and (2) an existing reservoir having a surface area of 280 acres, a storage capacity of 14,700 acre-feet, and normal water surface elevation of 718 feet mean sea level. American Renewables proposes to study the following three options to develop the Lake Clementine Hydroelectric Project. Option 1: (1) A 9-foot-diameter, 600-foot-long, steel penstock to convey water to the powerhouse; (2) a penstock bifurcation in the powerhouse supplying water to two generating units; (3) a powerhouse containing two new generating units having a total installed capacity of 8 to10 megawatts (MW); (4) a 300-foot-long tailrace channel returning flow to the North Fork of the American River; (5) a proposed 8,400-foot-long, 60-kilovolt (kV) transmission line; and (6) appurtenant facilities. The proposed project would have an average annual generation of 25 to 30 gigawatt-hours (GWh). Option 2: (1) A 9-foot-diameter, 600-foot-long, concrete-lined tunnel to convey water to the powerhouse, (2) outlet works that would bifurcate in the powerhouse supplying water to two generating units; (3) a powerhouse containing two new generating units having a total installed capacity of 8 to10 MW; (4) a 300-foot-long tailrace channel returning flow to the North Fork of the American River; (5) a proposed 8,400-foot-long, 60-kV transmission line; and (6) appurtenant facilities. The proposed project would have an average annual generation of 25 to 30 GWh. Option 3: (1) A 9-foot-diameter, 600-foot-long steel penstock through the dam to convey water to the powerhouse, (2) outlet works that would bifurcate in the powerhouse supplying water to two generating units; (3) a powerhouse containing two new generating units having a total installed capacity of 8 to10 MW; (4) a 300-foot-long tailrace channel returning flow to the North Fork of the American River; (5) a proposed 8,400-foot-long, 60-kV transmission line; and (6) appurtenant facilities. The proposed project would have an average annual generation of 25 to 30 GWh.

Applicant Contact: Magnus Johannesson, CEO, America Renewables, LLC, 28605 Quailhill Drive, Rancho Palos Verdes, CA 90275, phone: (310) 699-6400.

FERC Contact: J. Timothy Looney, 202-502-6096.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project, including a copy of the application, can be viewed or printed on the “eLibrary” link of Commission's Web site at http://www.ferc.gov/docs-filing/elibrary.asp. Enter the docket number (P-13432) in the docket number field to access the document. For assistance, call toll-free 1-866-208-3372.

Kimberly D. Bose,
Secretary.

[FR Doc. E9-18151 Filed 7-29-09; 8:45 am]

BILLING CODE 6717-01-P